DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than January 16, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Bureau of Primary Health Care (BPHC) Uniform Data System.

OMB No.: 0915-0193—Revision.

Abstract: The Uniform Data System (UDS) is the Bureau of Primary Health Care's (BPHC's) annual reporting system for HRSA-supported health centers. The UDS includes reporting requirements for Health Center Program grantees and look-alikes of the following programs: the Community Health Center program, the Migrant Health Center program, the Health Care for the Homeless program, and the Public Housing Primary Care program.

Need and Proposed Use of the Information: HRSA collects UDS data which are used to ensure compliance with legislative and regulatory requirements, improve health center performance and operations, and report overall program accomplishments. The data help to identify trends over time, enabling HRSA to establish or expand targeted programs and identify effective services and interventions to improve the health of underserved communities and vulnerable populations. UDS data are compared with national health-related data, including the National Health Interview Survey and the National Health and Nutrition Examination Survey, to review differences between the health center patient populations and the U.S. population at large and those individuals and families who rely on the health care safety net for primary care. UDS data also inform Health Center Programs, partners, and communities about the patients served by health centers. To meet these objectives, BPHC requires a core set of data collected annually. The UDS data collection for 2015 will be revised in three ways. A new line will be added to identify patients that are dually eligible for Medicare and Medicaid, a new measure will be added to collect the number of children with dental sealants on their first molar tooth, and the existing diabetes clinical measure will be streamlined to align with the National Quality Forum (NQF) endorsed measure and Healthy People 2020 national benchmark. Specifically, health centers will no longer report three categories: Hba1c less than 8%; Hba1c greater than or equal to 8% and less than or equal to 9%; and Hba1c greater than 9%. Health centers will report two categories: Hba1c less than 8% and Hba1c greater than 9%.

Likely Respondents: The respondents will be HRSA BPHC Health Center Program grantees and look-alikes.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Universal Report | 1,302 | 1 | 1302 | 170 | 221,340
Grant Report | 499 | 1 | 499 | 22 | 10,978
Total | 1,801 |  |  | 192 | 232,318

Jackie Painter,
Acting Director, Division of Policy and Information Coordination.

[FR Doc. 2014-29505 Filed 12-16-14; 8:45 am]

BILLING CODE 4165-15-P